DEPARTMENT OF HOMELAND SECURITY

Federal Emergency Management Agency

[Docket ID FEMA-2018-0002; Internal Agency Docket No. FEMA-B-1830]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 17, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1830, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

Community | Community map repository address
Cumberland County, Maine (All Jurisdictions)
Project: 12-01-1059S Preliminary Dates: April 14, 2017 and March 28, 2018
City of Portland | City Hall, 389 Congress Street, Portland, ME 04101.
City of South Portland | Planning and Development Department, 496 Ocean Street, South Portland, ME 04106.
City of Westbrook | Code Enforcement Department, 2 York Street, Westbrook, ME 04092.
Town of Baldwin | Baldwin Town Hall, Code Enforcement Office, 534 Pequawket Trail, West Baldwin, ME 04091.
Town of Bridgton | Municipal Complex, 3 Chase Street, Suite 1, Bridgton, ME 04009.
Town of Brunswick | Town Hall, 85 Union Street, Brunswick, ME 04011.
Town of Cape Elizabeth | Town Hall, 320 Ocean House Road, Cape Elizabeth, ME 04107.
Town of Casco | Town Hall, 635 Meadow Road, Casco, ME 04015.
Town of Chebeague Island | Town Office, 192 North Road, Chebeague Island, ME 04017.
Town of Cumberland | Town Hall, 290 Tuttle Road, Cumberland, ME 04021.
Town of Falmouth | Town Hall, 271 Falmouth Road, Falmouth, ME 04105.
Town of Freeport | Town Hall, 30 Main Street, Freeport, ME 04032.
Town of Frye Island | Town Hall, 1 Sunset Road, Frye Island, ME 04071.
Town of Gorham | Municipal Center, 75 South Street, Gorham, ME 04038.
Town of Gray | Town Hall, Community Development Department, 24 Main Street, Gray, ME 04039.
Town of Harpswell | Town Hall, 263 Mountain Road, Harpswell, ME 04079.
Town of Harrison | Town Office, 20 Front Street, Harrison, ME 04040.
Town of Long Island | Town Hall, 105 Wharf Street, Long Island, ME 04050.
Town of Naples | Town Hall, 15 Village Green Lane, Naples, ME 04055.
Town of New Gloucester | Town Hall, 385 Intervale Road, New Gloucester, ME 04260.
Town of North Yarmouth | Town Hall, 10 Village Square Road, North Yarmouth, ME 04097.
Town of Pownal | Town Hall, 429 Hallowell Road, Pownal, ME 04069.
Town of Raymond | Town Hall, 401 Webbs Mills Road, Raymond, ME 04071.
Town of Scarborough | Municipal Building, Planning and Code Enforcement Office, 259 US Route 1, Scarborough, ME 04074.
Town of Sebago | Town Office, Code Enforcement, 406 Bridgton Road, Sebago, ME 04029.
Town of Standish | Town Hall, 175 Northeast Road, Standish, ME 04084.
Town of Windham | Town Hall, Code Enforcement Department, 8 School Road, Windham, ME 04062.
Town of Yarmouth | Town Hall, 200 Main Street, Yarmouth, ME 04096.
York County, Maine (All Jurisdictions)
Project: 12-01-1061S Preliminary Dates: April 14, 2017 and March 28, 2018
City of Biddeford | City Hall, 205 Main Street, Biddeford, ME 04005.
City of Saco | City Hall, 300 Main Street, Saco, ME 04072.
City of Sanford | Code Enforcement Office, 919 Main Street, Suite 159, Sanford, ME 04073.
Town of Acton | Town Hall, 35 H Road, Acton, ME 04001.
Town of Alfred | Town Hall, Code Enforcement Office, 16 Saco Road, Alfred, ME 04002.
Town of Arundel | Town Office, 468 Limerick Road, Arundel, ME 04046.
Town of Berwick | Town Hall, 11 Sullivan Street, Berwick, ME 03901.
Town of Buxton | Town Hall, 185 Portland Road, Buxton, ME 04093.
Town of Cornish | Town Hall, 17 Maple Street, Cornish, ME 04020.
Town of Dayton | Town Hall, 33 Clarks Mills Road, Dayton, ME 04005.
Town of Eliot | Town Hall, 1333 State Road, Eliot, ME 03903.
Town of Hollis | Town Hall, 34 Town Farm Road, Hollis, ME 04042.
Town of Kennebunk | Town Hall, Community Development Office, 1 Summer Street, Kennebunk, ME 04043.
Town of Kennebunkport | Town Hall, 6 Elm Street, Kennebunkport, ME 04046.
Town of Kittery | Town Hall, 200 Rogers Road, Kittery, ME 03904.
Town of Lebanon | Town Hall, 15 Upper Guinea Road, Lebanon, ME 04027.
Town of Limerick | Municipal Building, Code Enforcement Office, 55 Washington Street, Limerick, ME 04048.
Town of Limington | Municipal Complex, 425 Sokokis Avenue, Limington, ME 04049.
Town of Lyman | Town Hall, Code Enforcement Office, 11 South Waterboro Road, Lyman, ME 04002.
Town of Newfield | Town Office, 637 Water Street, Newfield, ME 04095.
Town of North Berwick | Town Hall, 21 Main Street, North Berwick, ME 03906.
Town of Ogunquit | Town Hall, 23 School Street, Ogunquit, ME 03907.
Town of Old Orchard Beach | Town Hall, 1 Portland Avenue, Old Orchard Beach, ME 04064.
Town of Parsonsfield | Town Hall, 634 North Road, Parsonsfield, ME 04047.
Town of Shapleigh | Town Hall, 22 Back Road, Shapleigh, ME 04076.
Town of South Berwick | Town Hall, 180 Main Street, South Berwick, ME 03908.
Town of Waterboro | Waterboro Town Hall, 24 Townhouse Road, East Waterboro, ME 04030.
Town of Wells | Town Hall, 208 Sanford Road, Wells, ME 04090.
Town of York | Town Hall, 186 York Street, York, ME 03909.
Burnet County, Texas and Incorporated Areas
Project: 15-06-1088S Preliminary Date: March 16, 2018
Unincorporated Areas of Burnet County | Burnet County Development Services, Annex on the Square, 133 East Jackson Street, Room 107, Burnet, TX 78611.
Williamson County, Texas and Incorporated Areas
Project: 15-06-1088S Preliminary Date: March 16, 2018
City of Georgetown | Georgetown Utility Systems, 300-1 Industrial Avenue, Georgetown, TX 78626.
City of Granger | City Hall, 119 East Davilla Street, Granger, TX 76530.
City of Taylor | City Hall, 400 Porter Street, Taylor, TX 76574.
City of Thrall | City Hall, 104 South Main Street, Thrall, TX 76578.
City of Weir | City Hall, 2205 South Main Street, Weir, TX 78674.
Unincorporated Areas of Williamson County | Williamson County Central Maintenance Facility, 3151 Southeast Inner Loop, Suite B, Georgetown, TX 78626.

[FR Doc. 2018-13092 Filed 6-18-18; 8:45 am]

BILLING CODE 9110-12-P